SMALL BUSINESS ADMINISTRATION

[Disaster Declaration #21386 and #21387; MINNESOTA Disaster Number MN-20024]

Administrative Declaration of a Disaster for the State of Minnesota

AGENCY: U.S. Small Business Administration.

ACTION: Notice.

SUMMARY: This is a notice of an Administrative declaration of a disaster for the State of Minnesota dated December 22, 2025.

Incident: Skyline Tower Apartment Complex Fire and Severe Water Damage.

DATES: Issued on December 22, 2025.

Incident Period: October, 26 2025.

Physical Loan Application Deadline Date: February 20, 2026.

Economic Injury (EIDL) Loan Application Deadline Date: September 22, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties: Ramsey.

Contiguous Counties:

Minnesota: Anoka, Dakota, Hennepin, Washington.

The Interest Rates are:

| Percent
For Physical Damage:
Homeowners with Credit Available Elsewhere | 6.000
Homeowners without Credit Available Elsewhere | 3.000
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 213865 and for economic injury is 213870.

The State which received a disaster Declaration is Minnesota.

(Catalog of Federal Domestic Assistance Number 59008)

(Authority: 13 CFR 1234.3(b).)

James Stallings,
Associate Administrator, Office of Disaster Recovery and Resilience.

[FR Doc. 2025-23887 Filed 12-23-25; 8:45 am]

BILLING CODE 8026-09-P